DEPARTMENT OF THE INTERIOR

Fish and Wildlife Service

[FWS-R8-ES-2015-N255; FXES11130800000-156-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before January 28, 2015.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-50899B-0

Applicant: Nicholas S. Bonzey, Sacramento, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-829204

Applicant: Harry Lee Jones, Lake Forest, California

The applicant requests a permit renewal to take (harass by survey) the southwestern willow flycatcher (Empidonax traillii extimus) and take (locate and monitor nests) the least Bell's vireo (Vireo bellii pusillus), in conjunction with surveys and population monitoring activities throughout the range of the species in California for the purpose of enhancing the species' survival.

Permit No. TE-800930

Applicant: Viviane J. Marquez-Waller, Encinitas, California

The applicant requests a permit renewal to take (harass by survey) the southwestern willow flycatcher (Empidonax traillii extimus), and take (survey by pursuit) the Quino checkerspot butterfly (Euphydryas editha quino) in conjunction with survey and population monitoring activities throughout the range of the species in California for the purpose of enhancing the species' survival.

Permit No. TE-54716A

Applicant: Christine L. Harvey, San Diego, California

The applicant requests a permit renewal to take (harass by survey) the southwestern willow flycatcher (Empidonax traillii extimus) in conjunction with survey activities throughout the range of the species in California for the purpose of enhancing the species' survival.

Permit No. TE-09375A

Applicant: Laura Ann Eliassen, Bradley, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-811188

Applicant: Rosi Dagit, Agoura Hills, California

The applicant requests a permit to take (harass by survey, capture, handle, and release) the tidewater goby (Eucyclogobius newberryi) in conjunction with research activities throughout the range of the species in Los Angeles and Ventura Counties, California, for the purpose of enhancing the species' survival.

Permit No. TE-14231A

Applicant: Caesara W. Brungraber, Bend, Oregon

The applicant requests a permit renewal to take (capture, collect, and collect vouchers) the Riverside fairy shrimp (Streptocephalus woottoni) and San Diego fairy shrimp (Branchinecta sandiegonensis), and take (survey by pursuit) the Quino checkerspot butterfly (Euphydryas editha quino) in conjunction with survey activities throughout the range of the species within the jurisdiction of the Carlsbad Fish and Wildlife Service Office in California for the purpose of enhancing the species' survival.

Permit No. TE-134333

Applicant: California State University, Chico, California

The applicant requests a permit renewal to take (harass by survey, capture, handle, mark, and release) the California tiger salamander (Santa Barbara County Distinct Population Segment (DPS) and Sonoma County DPS) (Ambystoma californiense) in conjunction with surveys and population monitoring throughout the range of the species in California for the purpose of enhancing the species' survival.

Permit No. TE-799570

Applicant: Carol W. Witham, Sacramento, California

The applicant requests a permit amendment to remove/reduce to possession the Tuctoria mucronata (Solano grass), from lands under Federal jurisdiction in conjunction with restoration activities in Yolo County, California, for the purpose of enhancing the species' survival.

Permit No. TE-50992B

Applicant: Antonette T. Gutierrez, Imperial Beach, California

The applicant requests a permit to take (survey by pursuit) the Quino checkerspot butterfly (Euphydryas editha quino), take (harass by survey, locate and monitor nests) the southwestern willow flycatcher (Empidonax traillii extimus) and California least tern (Sternula antillarum browni) (Sterna a. browni), take (harass by survey by playing taped vocalizations, locate and monitor nests) the least Bell's vireo (Vireo bellii pusillus) and light-footed Ridgway's rail (light-footed clapper r.) (Rallus obsoletus levipes) (R. longirostris l.), and take (harass by survey, capture, handle, release) the tidewater goby (Eucyclogobius newberryi), in conjunction with survey and population monitoring activities throughout the range of the species in California for the purpose of enhancing the species' survival.

Permit No. TE-114936

Applicant: Bonnie J. Johnson, Norco, California

The applicant requests a permit renewal to take (locate and monitor nests) the least Bell's vireo (Vireo bellii pusillus) in conjunction with population monitoring activities throughout the range of the species in Orange, Riverside, San Diego, and San Bernardino Counties, California, for the purpose of enhancing the species' survival.

Permit No. TE-50999B

Applicant: Autumn N. Meisel, San Jose, California

The applicant requests a permit to take (harass by survey, capture, handle, and release) the California tiger salamander (Santa Barbara County DPS and Sonoma County DPS) (Ambystoma californiense) in conjunction with surveys and population monitoring throughout the range of the species in California for the purpose of enhancing the species' survival.

Permit No. TE-098994

Applicant: Kelly J. Goocher, Lancaster, California

The applicant requests a permit renewal to take (harass by survey) the southwestern willow flycatcher (Empidonax traillii extimus), and take (survey by pursuit) the Laguna Mountains skipper (Pyrgus ruralis lagunae) in conjunction with survey activities throughout the range of the species in California for the purpose of enhancing the species' survival.

Permit No. TE-022227

Applicant: Harry F. Smead, Lemon Grove, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-95006A

Applicant: Steven Chen, San Luis Obispo, California

The applicant requests a permit amendment to take (survey by pursuit) the Delhi Sands flower-loving fly (Rhaphiomidas terminatus abdominalis) in conjunction with survey activities throughout the range of the species in California for the purpose of enhancing the species' survival.

Permit No. TE-142435

Applicant: Debra M. Shier, Temecula, California

The applicant requests a permit amendment to take (conduct behavioral experiments, artificial lighting experiments, stress/hormone experiments, and inject reproductive hormones) the Pacific pocket mouse (Perognathus longimembris pacificus), and take (conduct behavioral experiments and artificial lighting experiments) the San Bernardino Merriam's kangaroo rat (Dipodomys merriami parvus) and Stephens' kangaroo rat (Dipodomys stephensi) in conjunction with authorized captive propagation activities and population monitoring research throughout the range of the species in California for the purpose of enhancing the species' survival.

Permit No. TE-048739

Applicant: Daniel A. Cordova, Sacramento, California

The applicant requests a permit renewal and amendment to take (locate and monitor nests) the California least tern (Sternula antillarum browni) (Sterna a. browni), take (harass by survey, capture, handle, release) the tidewater goby (Eucyclogobius newberryi), and take (harass by survey, capture, handle, mark, and release) the California tiger salamander (Santa Barbara County DPS and Sonoma County DPS) (Ambystoma californiense) in conjunction with surveys and population monitoring throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2014-30420 Filed 12-24-14; 8:45 am]

BILLING CODE 4310-55-P